DEPARTMENT OF TRANSPORTATION

Federal Aviation Administration

Operating Limitations at Chicago O'Hare International Airport, Notice of Meeting and Request for Information

AGENCY: Department of Transportation, Federal Aviation Administration (FAA).

ACTION: Notice of scheduling reduction meeting and request for information.

SUMMARY: FAA will conduct a meeting to discuss flight restrictions at Chicago O'Hare International Airport (ORD) to reduce overscheduling and flight delays during peak hours of operation at that airport. This meeting is open to all scheduled air carriers, regardless of whether they currently provide scheduled service to ORD, and to the Chicago Department of Aviation, which is the airport operator of ORD. Registration in advance of the meeting is requested. In addition, FAA invites interested persons to submit written information on such schedule reductions. FAA plans to issue its decision on scheduling limitations in a final order.

DATES: Scheduling reduction meeting. The FAA Administrator will host opening remarks on March 3, 2026, at 3:00 p.m. FAA will hold the scheduling reduction meeting on March 4, 2026, beginning at 9:00 a.m., and the meeting may continue, if necessary, until adjourned by the FAA.

Written information. Any written information on the subject of schedule reductions at ORD, including data and views, must be submitted by March 11, 2026. To the extent possible, FAA will consider late-filed submissions in making its determination in its final order.

ADDRESSES: Scheduling reduction meeting. The meeting will be held in the Bessie Coleman Room at the Orville Wright Building of the FAA, 800 Independence Ave. SW, Washington, DC 20591.

• Federal eRulemaking Portal: Go to http://www.regulations.gov and follow the instructions for submitting your information or comments electronically.

Instructions: You must include the agency name and docket number FAA-2004-16944 for this notice at the beginning of the information that you submit. Note that the information received will be posted without change to http://www.regulations.gov, including any personal information provided. Submissions to the docket that include trade secrets, confidential, commercial, or financial information, or sensitive security information will not be posted in the public docket. Such information will be placed in a separate file to which the public does not have access, and a note will be placed in the public docket to state that the agency has received such materials from the submitter.

Privacy: We will post all comments we receive, without change, including any personal information you provide. Using the search function of the docket website, anyone can find and read the electronic form of all comments received into any of our dockets, including the name of the individual sending or signing the comment. You may review DOT's complete Privacy Act Statement in the Federal Register published on April 11, 2000 (65 FR 19477-78).

Docket: To read background documents or comments received, go to http://www.regulations.gov at any time and follow the online instructions for accessing the docket. Alternatively, you may visit the Docket Management Facility in Room Wl2-140 of the West Building Ground Floor of the Department of Transportation at 1200 New Jersey Avenue SE, Washington, DC. between 9 a.m. and 5 p.m., Monday through Friday, except Federal holidays.

Registration: To register for attendance, contact Al Meilus at the numbers provided in the FOR FURTHER INFORMATION CONTACT section of this notice.

FOR FURTHER INFORMATION CONTACT: Al Meilus, Slot Administration and Capacity Analysis, FAA ATO System Operations Services, AJR-G5, Federal Aviation Administration, 800 Independence Avenue SW, Washington, DC 20591; telephone (202) 267-2822; email al.meilus@faa.gov.

SUPPLEMENTARY INFORMATION:

Background

The Federal Aviation Act (the Act) at 49 U.S.C. 41722, authorizes the Secretary of Transportation to request air carriers to attend a meeting with the FAA Administrator to discuss flight schedule reductions at any severely congested airport during peak operating hours.

The Department of Transportation (DOT) and FAA have determined that the communicated increase in operations at ORD will exceed the airport's capacity throughout the Summer 2026 scheduling season, March 29, 2026, through October 25, 2026. In addition to planned schedule increases by carriers, ORD continues to undergo long term construction projects that have and will impact operations to varying degrees throughout the Summer 2026 Scheduling Season.

Currently published schedules exceed 3,080 daily operations on peak days (source: Cirium).1 2 By comparison, daily scheduled operations for the Summer 2025 Scheduling Season peaked at approximately 2,680 total operations. This proposed increase is significant and would stress the runway, terminal, and air traffic control systems at the airport.

¹ Notice of Submission Deadline for Schedule Information for Chicago O'Hare International Airport, John F. Kennedy International Airport, Los Angeles International Airport, Newark Liberty International Airport, and San Francisco International Airport for the Summer 2026 Scheduling Season. October 3, 2025. https://www.faa.gov/media/106116.

² The publication of the Summer 2026 Schedule Submission notice was made on the FAA's website due to the lapse in appropriations disrupting timely publication in the Federal Register.

Presently, ORD facilitates approximately 100 hourly departures and arrivals respectively, resulting in approximately 2,800 total daily operations. This level of operations is manageable given the current infrastructure and staffing resources available at ORD. FAA proposes adopting these same limits throughout the Summer 2026 Scheduling Season to prevent large-scale operational disruption while also allowing air carriers to operate within the airport's demonstrated manageable capacity. FAA will review each 30-minute period between 06:00 and 21:59 local time with carriers to meet the overall hourly proposed scheduling limit.

As such, the Administrator has determined, pursuant to the Act, that scheduled operations at ORD must be limited to address overscheduling and that a scheduling reduction meeting is necessary in order to discuss flight reductions during peak operating hours. The Secretary of Transportation has also determined, pursuant to the Act, that a scheduling reduction meeting regarding flight reductions at ORD is necessary to meet a serious transportation need or to achieve an important public benefit, both of which include preserving competition, passenger throughput, and access to the airport as much as possible. In light of these determinations, FAA will conduct a scheduling reduction meeting pursuant to the Act.

As dictated by statute, the scheduling reduction meeting will only address planned scheduled operations by domestic air carriers. The scheduled operations of foreign air carriers are managed under a process defined by the International Air Transport Association (IATA). FAA will initiate steps under the IATA process to manage, if necessary, the scheduled operations of foreign air carriers at ORD that are complementary to the scheduling reduction meeting.

The FAA Administrator invites participants to attend opening remarks on Tuesday, March 3, 2026, at 3:00 p.m. FAA will then convene the scheduling reduction meeting on Wednesday, March 4, 2026, beginning at 9:00 a.m. The meeting may continue, if necessary, until adjourned by FAA.

FAA will transcribe the scheduling reduction meeting, including those sessions in which air carriers offer flight reductions to FAA, as provided for by the procedures outlined below. The transcript and other documents related to the meeting will be available for inspection in Department of Transportation Docket FAA-2004-16944. In addition, any interested person may submit written information to the public docket no later than March 11, 2026. The docket may be accessed via the internet at http://www.regulations.gov or at the Docket Management Facility for the Department of Transportation.

After conducting the scheduling reduction meeting and considering all submitted information, FAA will publish its final order on delay reductions at ORD in the Federal Register. The order is expected to be effective through the Summer 2026 scheduling season and may restrict service during peak hours by all carriers, including carriers that are not currently operating at ORD.

To ensure that proper accommodations are afforded at the meeting, all scheduled carriers that wish to attend the scheduling reduction meeting should register for the meeting on or before March 2, 2026. Registration may be accomplished by contacting Al Meilus, Slot Administration and Capacity Analysis, FAA ATO System Operations Services, AJR-G5, Federal Aviation Administration, 800 Independence Avenue SW, Washington, DC 20591; email al.meilus@faa.gov, identifying the air carrier and its intention to attend the meeting and identifying who will represent the air carrier at the meeting.

FAA's Air Traffic Organization will work with individual carriers to validate the schedule information to be used by FAA during the course of the scheduling reduction meeting. Because the scheduling reduction meeting and all preparations for it are subject to the U.S. antitrust laws, FAA has coordinated with the Department of Justice, Antitrust Division, on procedures for conducting the meeting in a way that should facilitate legal compliance and mirror the procedures FAA has used for scheduling reduction meetings in the past.³

³ See, Operating Limitations at Newark Liberty International Airport, Notice of Meeting and Request for Information (May 14, 2025) 90 FR 20545.

As noted in this correspondence, communications among carriers regarding competitively sensitive information could result in a violation of the antitrust laws and lead to civil or criminal liability. Thus, the procedures outlined in this notice provide for a series of schedule reduction sessions to be conducted separately by FAA staff with each air carrier attending the meeting. We may also meet with representatives of the airport operator. During those sessions any scheduled air carrier or the airport operator in attendance may provide other supplemental information to FAA regarding the targeted schedule reductions at ORD. FAA requests the cooperation of all participants at the meeting in adhering to the procedures outlined in this notice.

The text of the FAA letter describing the planned procedures and the text of the Department of Justice letter assessing those procedures are as follows:

February 26, 2026

Omeed A. Assefi, Esq., Acting Assistant Attorney General, Antitrust Division, Room 3109, U.S. Department of Justice, 950 Pennsylvania Avenue NW, Washington, DC 20530-0001

Dear Mr. Assefi:

The Secretary of Transportation has determined, pursuant to 49 U.S.C. 41722,⁴ that it is necessary to convene a meeting of air carriers with the Administrator of the Federal Aviation Administration (FAA) to discuss flight reductions at Chicago O'Hare International Airport (ORD) in an effort to reduce overscheduling, flight delays and cancellations during peak hours of operation. Because of severe congestion at that airport and the resulting delays, cancellations, and inconvenience to the traveling public, the Administrator intends to convene such a meeting in the immediate future. The purpose of this letter is to describe the format and procedures for the meeting and to ensure that, provided the meeting is conducted in accordance with this letter, the Department of Justice would not seek to challenge as a violation of the U.S. antitrust laws any air carrier's attendance at or participation in the meeting or an air carrier's unilateral actions taken to comply with an Order of the Administrator issued as a result of the meeting.

⁴ § 41722 Delay reduction actions.

(a) Scheduling Reduction Meetings—The Secretary of Transportation may request that air earners meet with the Administrator of the Federal Aviation Administration to discuss flight reductions at severely congested airports to reduce overscheduling and• flight delays during hours of peak operation if—

(1) the Administrator determines that it is necessary to convene such a meeting; and

(2) the Secretary determines that the meeting is necessary to meet a serious transportation need or an important public benefit

(b) Meeting Conditions—Any meeting under subsection (a)

(1) shall be chaired by the Administrator,

(2) shall be open to all scheduled air carriers; and,

(3) shall be limited to discussions involving the airports and time periods described in the Administrator's determination.

(c) Flight Reduction Targets—Before any such meeting is held, the Administrator shall establish flight reduction targets for the meeting and notify the attending air carriers of those targets not less than 48 hours before the meeting.

(d) Delay Reduction Offers—An air earner attending the meeting shall make any offer to meet a flight reduction target to the Administrator rather than to another carrier.

(e) Transcript—The Administrator shall ensure that a transcript of the meeting is kept and made available to the public not later than 3 business days after the conclusion of the meeting.

Meeting Procedures

1. Conduct of the Meeting

The meeting will be conducted under the following procedures:

a. The meeting will be chaired by the Administrator or by a delegate of the Administrator.

b. The meeting will be open to attendance by the ORD airport operator and all scheduled air carriers, and FAA will transcribe the meeting.

c. Representatives of the Department of Justice will be invited to attend.

d. At the beginning of the meeting, the FAA will announce that the meeting and all preparations for it are subject to the antitrust laws and that communications among carriers regarding competitively sensitive information, such as markets served, prices charged, and marketing plans, could result in a violation of the antitrust laws and lead to civil or criminal liability. The FAA will further announce that, pursuant to advice from the Department of Justice, no communication will be permitted by any air carrier representative in the presence of any representative of another air carrier regarding the subject of flight reductions at ORD or regarding any other competitively sensitive information, including but not limited to markets served, prices charged, and marketing plans.

e. The Administrator will then distribute to the meeting's attendees a list of the number of flights, not specific as to air carrier, during each 30-minute period between 06:00 and 21:59 local time on a representative business day, and he will identify any periods that he considers severely congested, as well as general targets for flight reductions during those periods. This list will not include carrier-specific limitations, targets, or suggested reductions. f. Each air carrier serving ORD and attending the meeting will then be invited into a separate and confidential session with representatives of the ATO at which the air carrier will be asked to offer flight reductions or schedule modifications. Only representatives of that air carrier and the U.S. Government will be permitted to attend the offer sessions; however, the sessions will be transcribed.

g. Any offer of flight reductions should specify the precise number of arrivals and departures, if any, the submitting air carrier is willing to remove from each of the severely congested periods identified by the Administrator, indicating whether the flight operation(s) would be cancelled or moved to another time period. The offer may not be explicitly contingent on specific flight reductions by other air carriers, but may be conditioned on the Administrator's implementation of an overall reduction of specified numbers of flight operations toward the target during the periods in question. The offer may not contain information from the air carrier on markets served prices charged, marketing plans, or other competitively sensitive matters.

h. After the completion of all such sessions, the FAA will: (1) review the offers made; (2) revise, in light of the offers made, the list of the number of flights, not specific as to air carrier, during each 30-minute period between 06:00 and 21:59 local time on a representative business day; and (3) consult with the Administrator. The Administrator will distribute to the meeting's attendees the carrier non-specific list of the number of flights on a representative business day and he will identify any periods that he continues to consider severely congested and identify targets for flight reductions during those periods.

i. At his discretion, the Administrator or his delegate may repeat steps (f) through (h) and he may continue the schedule reduction meeting as he deems necessary.

j. If the Administrator determines that identifying carrier-specific targets would facilitate voluntary flight reductions and schedule modifications, the Administrator may advise each air carrier separately and confidentially of flight reduction targets specific to that air carrier. No carrier-specific information will be provided to any air carrier other than information regarding that air carrier; however, the Administrator may make general assurances with respect to the overall proportionality of the flight reductions among the air carriers serving ORD.

k. Following the Administrator's identification of further flight reduction targets, each air carrier attending the meeting that serves ORD will be invited to a separate and confidential session with representatives of the FAA, at which the air carrier will be given the opportunity to submit a new or revised offer of flight reductions or schedule modifications.

l. At his discretion. the Administrator or his delegate may repeat steps (j) and (k). and he may continue the schedule reduction meeting as he deems necessary.

m. The Administrator may terminate the schedule reduction meeting at his discretion.

2. Order of the Administrator Concerning Delays at ORD

The FAA will review the final offers of each air carrier attendee of the meeting and recommend a proposed flight reduction plan to the Administrator. After the Administrator's review and approval of the plan, the resulting schedule reductions including carrier-specific limitations, will be published in the Federal Register as a final order of the Administrator. The final order of the Administrator will specify a method by which air carriers adversely affected by the order may be relieved of its effect. The order will also be subject to modification by the Administrator.

Please advise if these procedures are acceptable to you.

Sincerely,

William McKenna,

Chief Counsel

February 26, 2026

William McKenna, Chief Counsel, U.S. Department of Transportation, Federal Aviation Administration, 800 Independence Ave. SW, Washington, DC 20591

Re: Proposed Chicago O'Hare International Airport Scheduling Reduction Meeting

Dear Mr. McKenna:

This letter is written in response to your February 26, 2026 letter describing the planned format of a meeting of air carriers with the Administrator of the Federal Aviation Administration (“FAA”) to discuss flight reductions at Chicago O'Hare International Airport (“ORD”). The meeting is being called because the Secretary of Transportation has determined, pursuant to 49 U.S.C. 41722, that the meeting is necessary to address severe congestion at ORD and reduce flight delays during peak hours of operation. We also understand that the meeting is important to meet the serious and unusual situation occurring at ORD right now. You seek assurances that, provided the meeting and related activities are conducted as described in your letter, the Department of Justice would not seek to challenge as a violation of the antitrust laws any air carrier's attendance at or participation in the meeting or any carrier's unilateral actions taken to comply with an Order of the Administrator issued as a result of the meeting.

According to your letter, representatives of the Department of Justice will be invited to attend the meeting. At the beginning of the meeting, the FAA's Administrator (or his delegee) will advise all carriers participating in the meeting that the meeting and all preparations for it are subject to the antitrust laws and that communications among carriers regarding competitively sensitive information, such as markets served, prices charged, and marketing plans, could result in a violation of the antitrust laws and lead to civil or criminal liability. The Administrator (or his delegee) also will announce that, pursuant to advice from the Department of Justice, no communication will be permitted by any air carrier representative in the presence of any representative of another air carrier regarding flight reductions at ORD or any other competitively sensitive subject, including but not limited to markets served, prices charged, and marketing plans.

At the meeting, the Administrator will distribute to the meeting's attendees a list of the number of flights, not specific as to air carrier, during each 30-minute period from 06:00 to 21:59 local time on a representative business day, and indicate any periods that he considers to be severely congested, and provide general targets for flight reductions during those periods. This list will not identify which carriers' flights are suggested or targeted to be limited, moved, or eliminated. Each carrier in attendance will then be invited into a separate, confidential discussion with the FAA Air Traffic Organization (ATO) during which the carrier will be asked to offer specific flight reductions or schedule modifications, which shall not be contingent on reductions offered by another carrier or carriers. The offer may not contain information from the air carrier on markets served, prices charged, marketing plans, or other competitively sensitive information. Representatives of the Department of Justice Antitrust Division will be invited to attend each of these individual carrier offer sessions.

After completion of the individual carrier sessions, the ATO will revise the list of flights to reflect the individual discussions with the carriers. The carriers will again be given this list which will not identify flights by carrier. If the Administrator believes that severely congested time periods still exist, he may set revised targets and have the ATO repeat the individual sessions with carriers. Again, representatives of the Antitrust Division will be invited to attend any repeated sessions.

If the Administrator determines that identifying carrier-specific targets is necessary to facilitate voluntary flight reductions and schedule modifications, he may advise each carrier separately and confidentially of flight reduction targets specific to that carrier, which information will not be given to any other carrier or carriers. The Administrator may also make a general assurance with respect to the overall proportionality of the flight reductions being sought by the FAA from carriers serving ORD.

The Administrator will develop and approve a proposed flight reduction plan and schedule reduction, which will be published in the Federal Register as a final order. We believe that it also will be important to competition for the FAA to publicly notify the airlines, the Department of Justice, and the public when the need to restrict flights at ORD has eased enough that the flight reduction and schedule reduction plan is no longer required.

Importantly, the procedures do not provide for any meetings among the carriers without the FAA and Antitrust Division present. The procedures will not allow any discussion or negotiation among carriers about flight reductions, prices charged, or markets served. During the course of the meetings, carriers will not be told schedule reductions or modifications other carriers are offering or being asked to offer.

For these reasons, the Department is not presently inclined to initiate antitrust enforcement action against any carrier that participates in the FAA's flight reduction meeting and conducts itself in the manner described in your February 26, 2026, letter. This expresses the Department's current enforcement intention regarding the carriers' participation in the flight reductions meeting. The Department reserves the right to bring an enforcement action against any conduct that violated the antitrust laws.

Sincerely,

Omeed A. Assefi

Issued in Washington, DC, on February 27, 2026.
William McKenna,
Chief Counsel.

[FR Doc. 2026-04198 Filed 2-27-26; 4:15 pm]

BILLING CODE 4910-13-P